DEPARTMENT OF STATE

[Public Notice: 10958]

Report to Congress Pursuant to Section 1245(e) of the National Defense Authorization Act for Fiscal Year 2013 (FY13 NDAA)

ACTION: Notice of report.

FOR FURTHER INFORMATION CONTACT: On general issues: Rachael Jagielski, Office of Counterproliferation Initiatives, Department of State, Tel: (202) 647-5193.

Report (October 29, 2019)

Section 1245(e) of the FY13 NDAA, known as the Iran Freedom and Counter-Proliferation Act of 2012 (IFCA), as delegated, requires that the Secretary of State, in consultation with the Secretary of the Treasury, determine (1) whether Iran is (A) using any of the materials described in subsection (d) of Section 1245 of IFCA as a medium for barter, swap, or any other exchange or transaction, or (B) listing any of such materials as assets of the Government of Iran for purposes of the national balance sheet of Iran; (2) which sectors of the economy of Iran are controlled directly or indirectly by Iran's Islamic Revolutionary Guard Corps (IRGC); and (3) which of the materials described in subsection (d) are used in connection with the nuclear, military, or ballistic missile programs of Iran. Materials described in subsection (d) of Section 1245 are graphite, raw or semi-finished metals such as aluminum and steel, coal, and software for integrating industrial processes.

The previous report under Section 1245(e) of IFCA was dated February 10, 2014. The information available for the time period from January 1, 2014 to December 31, 2016 has been reviewed, and this report provides a determination for each item identified in Section 1245(e) for that period.

Following a review of the available information, and in consultation with the Department of the Treasury, the Secretary of State has determined that Iran is not using the materials described in Section 1245(d) as a medium for barter, swap, or any other exchange or transaction; nor is Iran listing any such materials as assets of the Government of Iran for purposes of the national balance sheet of Iran.

Following a review of the available information, and in consultation with the Department of the Treasury, the Secretary of State has not identified a sector of the Iranian economy that is controlled directly or indirectly by the IRGC. This finding reflects a change in the IRGC's influence over the energy sector since the previous report under Section 1245(e).

As previously determined, of the 31 materials expected to be included within the scope of Section 1245(d) of IFCA, certain types of the following materials are used in connection with the nuclear, military, or ballistic missile programs of Iran: Aluminum, beryllium, boron, cobalt, copper, copper-infiltrated tungsten, copper-beryllium, graphite, hastelloy, Inconel, magnesium, molybdenum, nickel, niobium, silver-infiltrated tungsten, steels (including, but not limited to, maraging steels and stainless steels), titanium diboride, tungsten, tungsten carbide, and zirconium.

Following a review of the available information, and in consultation with the Department of the Treasury, the Secretary of State has determined that, of the materials listed above, the following certain types of those materials are used in connection with the nuclear, military, or ballistic missile programs of Iran: Stainless steel 304L tubes, MN40 manganese brazing foil, MN70 manganese brazing foil, and stainless steel CrNi60WTi ESR+VAR (chromium, nickel, 60 percent tungsten, titanium, electro-slag remelting, vacuum arc remelting). Subsequent to this determination, if the Secretary of State, in consultation with the Secretaries of the Treasury and Commerce and the U.S. Trade Representative, and other agencies as appropriate, determines that a person knowingly sells, supplies, or transfers, directly or indirectly, to or from Iran, any of the materials listed in this paragraph, sanctions would be applicable pursuant to Section 1245(a)(1)(C)(i)(III) of IFCA.

Dated: October 29, 2019.
Michael R. Pompeo,
Secretary of State.

[FR Doc. 2019-26069 Filed 12-2-19; 8:45 am]

BILLING CODE 4710-27-P